DEPARTMENT OF ENERGY

Federal Energy Regulatory Commission

[Project No. 3472-024]

Aspinook Hydro, LLC; Notice of Intent To Prepare an Environmental Assessment

On April 30, 2020, Aspinook Hydro, LLC filed an application for a new major license for the 2.78-megawatt Wyre Wynd Hydroelectric Project (Wyre Wynd Project) (FERC No. 3472). The Wyre Wynd Project is located on the Quinebaug River in New London and Windham Counties, Connecticut. The project does not occupy federal land.

In accordance with the Commission's regulations, on October 6, 2021, Commission staff issued a notice that the project was ready for environmental analysis (REA notice). Based on the information in the record, including comments filed on the REA notice, staff does not anticipate that licensing the project would constitute a major federal action significantly affecting the quality of the human environment. Therefore, staff intends to prepare an Environmental Assessment (EA) on the application to license the Wyre Wynd Project.

The EA will be issued and circulated for review by all interested parties. All comments filed on the EA will be analyzed by staff and considered in the Commission's final licensing decision.

The application will be processed according to the following schedule. Revisions to the schedule may be made as appropriate.

Milestone | Target date
Commission issues EA | June 2022.¹
Comments on EA | July 2022.

Any questions regarding this notice may be directed to Kristine Sillett at (202) 502-6575 or kristine.sillett@ferc.gov.

¹ The Council on Environmental Quality's (CEQ) regulations under 40 CFR 1501.10(b)(1) require that EAs be completed within 1 year of the federal action agency's decision to prepare an EA. This notice establishes the Commission's intent to prepare an EA for the Wyre Wynd Project. Therefore, in accordance with CEQ's regulations, the EA must be issued within 1 year of the issuance date of this notice.

Dated: January 11, 2022.
Kimberly D. Bose,
Secretary.

[FR Doc. 2022-00812 Filed 1-14-22; 8:45 am]

BILLING CODE 6717-01-P